DEPARTMENT OF COMMERCE

National Oceanic and Atmospheric Administration

50 CFR Parts 600 and 635

RIN 0648-AU89

Atlantic Highly Migratory Species; Atlantic Shark Management Measures; Amendment 2 to the Consolidated Highly Migratory Species Fishery Management Plan

AGENCY: National Marine Fisheries Service (NMFS), National Oceanic and Atmospheric Administration (NOAA), Commerce.

ACTION: Proposed rule; reopening comment period.

SUMMARY: NMFS is reopening the comment period to provide additional opportunity for public comment on the draft Amendment 2 to the Consolidated Highly Migratory Species (HMS) Fishery Management Plan (FMP) and its July 27, 2007, proposed rule. More specifically, NMFS is interested in receiving comments on a modification to shark dealer weigh-out slips that would facilitate compliance with measures proposed in the draft Amendment 2 to the HMS FMP, which would require fishermen to land sharks with all fins naturally attached. Additionally, over the course of the comment period, NMFS has received suggestions on ways to modify the proposed measures to minimize impacts to fishermen. NMFS is interested in receiving additional comments regarding those suggestions. Furthermore, as is required under the current regulations and was proposed to be maintained in the July 27, 2007, proposed rule, any overharvests that occur in the 2007 or 2008 commercial shark fishery will be accounted for with the implementation of final Amendment 2 to the Consolidated HMS FMP. Thus, NMFS is reopening the comment period for 30 days to gather further public comment on these issues. The draft Amendment 2 to the Consolidated HMS FMP and its proposed rule also describe a range of other management measures that could impact fishermen and dealers for HMS fisheries.

DATES: The public comment period for receiving written comments on the July 27, 2007 (72 FR 41392), proposed rule and the draft Amendment 2 to the Consolidated HMS FMP is reopened. Comments must be received by 5 p.m. on December 17, 2007.

ADDRESSES: You may submit comments, identified by 0648-AU89, by any one of the following methods:

• Electronic Submissions: Submit all electronic public comments via the Federal eRulemaking Portal http://www.regulations.gov

• Email to ShkA2@noaa.gov.

• Fax: 301-713-1917, Attn: Michael Clark

• Mail: Attn: Michael Clark, HMS Management Division (SF1), 1315 East-West Highway, Silver Spring, MD 20910. Please mark the outside of the envelope “Comment on Amendment 2.”

Instructions: All comments received are part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, PowerPoint, or Adobe PDF file formats only.

Copies of the draft Amendment 2 to the Consolidated HMS FMP and other relevant documents are available on the HMS Management Division's website at www.nmfs.noaa.gov/sfa/hms or by contacting the HMS Management Division at 301-713-2347.

FOR FURTHER INFORMATION CONTACT: For more information concerning the draft Amendment 2 to the Consolidated HMS FMP and its proposed rule, contact: Michael Clark at 301-713-2347 or fax 301-713-1917; or Jackie Wilson at 240-338-3936 or fax 404-806-9188.

SUPPLEMENTARY INFORMATION: The Atlantic HMS fisheries are managed under the dual authority of the Magnuson-Stevens Fishery Conservation and Management Act (Magnuson-Stevens Act) and the Atlantic Tunas Convention Act (ATCA). The Consolidated HMS FMP, finalized in 2006, and amendments to that FMP are implemented by regulations at 50 CFR part 635.

On July 27, 2007 (72 FR 41392), NMFS published a proposed rule that requested comments on the draft Amendment 2 to the Consolidated HMS FMP, and scheduled 10 public hearings throughout August and September 2007 to receive comments from fishery participants and other members of the public regarding the proposed rule and draft Amendment 2 to the Consolidated HMS FMP. On October 3, 2007 (72 FR 56330), the comment period was extended from October 15, 2007, to November 2, 2007.

At the October 2007 HMS Advisory Panel (AP) meeting, AP members asked a number of questions regarding the proposed measures that would require fishermen to land sharks with all fins naturally attached. Specifically, AP members asked how this requirement would relate to the Shark Finning Prohibition Act and its implementing regulations. In order to provide evidence that sharks were actually landed with their fins attached, NMFS is considering modifying shark dealer weigh-out slips so that dealers can document when they receive sharks landed with fins naturally attached. NMFS recently released a document that discusses this issue entitled “Clarification of the Proposed Rule Regarding Landing Sharks with the Fins Attached and the Shark Finning Prohibition Act,” which is available on the HMS website (see ADDRESSES) and was distributed to the HMS listserve.

Throughout the comment period, NMFS has received thousands of comments on the full range of analyzed alternatives, including the status of the stocks, proposed quotas, proposed shark landing requirements, and the proposed list of allowable shark species for recreational anglers. NMFS has also received suggestions on modifying the proposed measures to minimize impacts on fishermen. Specifically, one group of commenters, including the Gulf of Mexico Fishery Management Council and the Atlantic States Marine Fisheries Commission, suggest implementing two regions (i.e., a Gulf of Mexico region and an Atlantic region). In general, these comments were made in light of the blacktip shark status in the Gulf of Mexico and the large overharvests in the Gulf of Mexico during 2007. NMFS has not fully analyzed the implications of the two regions versus the proposed one region or the status quo alternative of three regions. Nonetheless, NMFS welcomes additional comments on this suggestion.

Finally, NMFS is clarifying that any overharvests in 2007 or 2008 would be accounted for in final measures implementing Amendment 2 to the Consolidated HMS FMP, consistent with both the current and proposed regulations. NMFS continues to accept comments on any of the proposed measures and on those measures that comments were specifically requested, including the proposed list of species that recreational anglers would be allowed to land, the amount of time proposed to provide notice of closures, and the 80 percent trigger for closing commercial shark fisheries.

In order to provide additional opportunities for public comment, NMFS is reopening the public comment period on the proposed rule and draft Amendment 2 to the Consolidated HMS FMP until 5 p.m., December 17, 2007.

Authority: 5 U.S.C. 561 and 16 U.S.C. 1801 et seq.

Dated: November 9, 2007.
John Oliver,
Deputy Assistant Administrator for Operations, National Marine Fisheries Service.

[FR Doc. E7-22377 Filed 11-14-07; 8:45 am]

BILLING CODE 3510-22-S